DEPARTMENT OF TRANSPORTATION

Federal Aviation Administration

14 CFR Part 97

[Docket No. 31333; Amdt. No. 3924]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective October 5, 2020. The compliance date for each SIAP, associated Takeoff Minimums, and ODP is specified in the amendatory provisions.

The incorporation by reference of certain publications listed in the regulations is approved by the Director of the Federal Register as of October 5, 2020.

ADDRESSES: Availability of matter incorporated by reference in the amendment is as follows:

For Examination

1. U.S. Department of Transportation, Docket Ops-M30, 1200 New Jersey Avenue SE, West Bldg., Ground Floor, Washington, DC, 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on September 18, 2020.
Wade Terrell,
Aviation Safety Manager, Flight Procedures & Airspace Group Flight Technologies and Procedures Division.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31RADAR SIAPs; § 97.33 RNAV SIAPs; and § 97.35 COPTER SIAPs, Identified as follows:

* * * Effective Upon Publication

AIRAC date | State | City | Airport | FDC No. | FDC date | Subject
5-Nov-20 | ME | Dexter | Dexter Rgnl | 0/0280 | 9/11/20 | RNAV (GPS) RWY 16, Orig-A.
5-Nov-20 | ME | Augusta | Augusta State | 0/0283 | 9/11/20 | RNAV (GPS) RWY 17, Orig-B.
5-Nov-20 | ME | Pittsfield | Pittsfield Muni | 0/0287 | 9/11/20 | RNAV (GPS) RWY 18, Amdt 1.
5-Nov-20 | ME | Carrabassett | Sugarloaf Rgnl | 0/0290 | 9/11/20 | RNAV (GPS)-A, Orig.
5-Nov-20 | ME | Waterville | Waterville Robert Lafleur | 0/0397 | 9/11/20 | RNAV (GPS) RWY 5, Amdt 1B.
5-Nov-20 | MN | Baudette | Baudette Intl | 0/1148 | 9/14/20 | ILS OR LOC RWY 30, Amdt 1.
5-Nov-20 | TN | Waverly | Humphreys County | 0/2076 | 8/27/20 | RNAV (GPS) RWY 21, Orig-B.
5-Nov-20 | SD | Gregory | Gregory Muni-Flynn Fld | 0/2088 | 8/31/20 | RNAV (GPS) RWY 13, Orig-C.
5-Nov-20 | KS | Wellington | Wellington Muni | 0/2158 | 8/31/20 | RNAV (GPS) RWY 36, Amdt 2.
5-Nov-20 | KS | Wellington | Wellington Muni | 0/2159 | 8/31/20 | RNAV (GPS) RWY 18, Amdt 2.
5-Nov-20 | MD | College Park | College Park | 0/3476 | 8/26/20 | RNAV (GPS)-B, Orig.
5-Nov-20 | NE | Grant | Grant Muni | 0/3498 | 8/31/20 | NDB RWY 33, Amdt 3B.
5-Nov-20 | NE | Grant | Grant Muni | 0/3499 | 8/31/20 | RNAV (GPS) RWY 15, Amdt 1.
5-Nov-20 | NE | Grant | Grant Muni | 0/3500 | 8/31/20 | RNAV (GPS) RWY 33, Amdt 1.
5-Nov-20 | NE | Grant | Grant Muni | 0/3501 | 8/31/20 | VOR/DME RWY 15, Amdt 2A.
5-Nov-20 | KS | Wichita | Wichita Dwight D Eisenhower National | 0/4060 | 9/4/20 | NDB RWY 1R, Amdt 15C.
5-Nov-20 | KS | Wichita | Wichita Dwight D Eisenhower National | 0/4061 | 9/4/20 | RNAV (GPS) RWY 32, Amdt 1A.
5-Nov-20 | KS | Wichita | Wichita Dwight D Eisenhower National | 0/4062 | 9/4/20 | RNAV (GPS) Y RWY 1L, Amdt 1C.
5-Nov-20 | KS | Wichita | Wichita Dwight D Eisenhower National | 0/4063 | 9/4/20 | RNAV (GPS) Y RWY 14, Amdt 2A.
5-Nov-20 | KS | Wichita | Wichita Dwight D Eisenhower National | 0/4066 | 9/4/20 | RNAV (GPS) Y RWY 19R, Amdt 1B.
5-Nov-20 | KS | Wichita | Wichita Dwight D Eisenhower National | 0/4067 | 9/4/20 | VOR RWY 14, Amdt 1F.
5-Nov-20 | CA | Willits | Ells Field-Willits Muni | 0/4086 | 9/8/20 | RNAV (GPS) RWY 16, Amdt 1B.
5-Nov-20 | AZ | Marana | Marana Rgnl | 0/4375 | 9/8/20 | RNAV (GPS)-E, Orig-A.
5-Nov-20 | AZ | Lake Havasu City | Lake Havasu City | 0/4421 | 9/8/20 | RNAV (GPS) RWY 14, Orig-A.
5-Nov-20 | PA | Philipsburg | Mid-State | 0/4425 | 9/8/20 | VOR RWY 24, Amdt 16C.
5-Nov-20 | AK | Minchumina | Minchumina | 0/4473 | 9/4/20 | NDB RWY 3, Amdt 3D.
5-Nov-20 | AK | Minchumina | Minchumina | 0/4474 | 9/4/20 | RNAV (GPS) RWY 21, Orig-C.
5-Nov-20 | IN | Griffith | Griffith-Merrillville | 0/4518 | 9/8/20 | RNAV (GPS) RWY 8, Orig-A.
5-Nov-20 | IN | Griffith | Griffith-Merrillville | 0/4519 | 9/8/20 | RNAV (GPS) RWY 26, Orig-A.
5-Nov-20 | IN | Greensburg | Greensburg Municipal | 0/4529 | 9/8/20 | RNAV (GPS) RWY 36, Orig-B.
5-Nov-20 | IN | Greensburg | Greensburg Municipal | 0/4530 | 9/8/20 | VOR-A, Amdt 2D.
5-Nov-20 | OH | Bowling Green | Wood County | 0/4534 | 9/8/20 | RNAV (GPS) RWY 18, Orig-C.
5-Nov-20 | OH | Bowling Green | Wood County | 0/4535 | 9/8/20 | RNAV (GPS) RWY 36, Orig-C.
5-Nov-20 | HI | Kailua/Kona | Ellison Onizuka Kona Intl At Keahole | 0/4646 | 8/27/20 | ILS OR LOC RWY 17, Amdt 2B.
5-Nov-20 | HI | Kailua/Kona | Ellison Onizuka Kona Intl At Keahole | 0/4647 | 8/27/20 | LOC BC RWY 35, Amdt 10B.
5-Nov-20 | HI | Kailua/Kona | Ellison Onizuka Kona Intl At Keahole | 0/4648 | 8/27/20 | RNAV (GPS) Y RWY 17, Amdt 1C.
5-Nov-20 | HI | Kailua/Kona | Ellison Onizuka Kona Intl At Keahole | 0/4649 | 8/27/20 | VOR OR TACAN RWY 17, Orig-C.
5-Nov-20 | HI | Kailua/Kona | Ellison Onizuka Kona Intl At Keahole | 0/4650 | 8/27/20 | VOR OR TACAN RWY 35, Orig-C.
5-Nov-20 | PA | Towanda | Bradford County | 0/5161 | 9/8/20 | RNAV (GPS) RWY 23, Orig-A.
5-Nov-20 | PA | Towanda | Bradford County | 0/5162 | 9/8/20 | RNAV (GPS)-A, Orig.
5-Nov-20 | CA | Mariposa | Mariposa-Yosemite | 0/5180 | 9/10/20 | RNAV (GPS)-A, Orig-A.
5-Nov-20 | CA | Mariposa | Mariposa-Yosemite | 0/5181 | 9/10/20 | RNAV (GPS)-B, Orig-A.
5-Nov-20 | VA | Richlands | Tazewell County | 0/5198 | 9/8/20 | LOC/DME RWY 25, Amdt 1B.
5-Nov-20 | VA | Richlands | Tazewell County | 0/5199 | 9/8/20 | RNAV (GPS) RWY 7, Orig-B.
5-Nov-20 | VA | Richlands | Tazewell County | 0/5200 | 9/8/20 | RNAV (GPS) RWY 25, Amdt 1A.
5-Nov-20 | CA | Camarillo | Camarillo | 0/5201 | 8/28/20 | VOR RWY 26, Amdt 5A.
5-Nov-20 | LA | Minden | Minden | 0/5206 | 9/1/20 | VOR/DME-A, Amdt 5.
5-Nov-20 | MN | Albert Lea | Albert Lea Muni | 0/5604 | 8/31/20 | VOR RWY 17, Amdt 1B.
5-Nov-20 | MS | Grenada | Grenada Muni | 0/5634 | 9/1/20 | RNAV (GPS) RWY 4, Amdt 1C.
5-Nov-20 | MS | Grenada | Grenada Muni | 0/5636 | 9/1/20 | RNAV (GPS) RWY 13, Amdt 1B.
5-Nov-20 | MS | Grenada | Grenada Muni | 0/5638 | 9/1/20 | RNAV (GPS) RWY 22, Amdt 1C.
5-Nov-20 | MS | Grenada | Grenada Muni | 0/5643 | 9/1/20 | RNAV (GPS) RWY 31, Amdt 1B.
5-Nov-20 | FL | Orlando | Executive | 0/5764 | 8/26/20 | ILS OR LOC RWY 7, Amdt 24A.
5-Nov-20 | FL | Orlando | Executive | 0/5765 | 8/26/20 | ILS OR LOC RWY 25, Amdt 1A.
5-Nov-20 | FL | Orlando | Executive | 0/5766 | 8/26/20 | RNAV (GPS) RWY 7, Amdt 2B.
5-Nov-20 | FL | Orlando | Executive | 0/5767 | 8/26/20 | RNAV (GPS) RWY 25, Amdt 3A.
5-Nov-20 | DE | Dover/Cheswold | Delaware Airpark | 0/5840 | 8/26/20 | RNAV (GPS) RWY 9, Orig A.
5-Nov-20 | DE | Dover/Cheswold | Delaware Airpark | 0/5841 | 8/26/20 | RNAV (GPS) RWY 27, Orig-A.
5-Nov-20 | DE | Dover/Cheswold | Delaware Airpark | 0/5842 | 8/26/20 | VOR RWY 27, Orig-B.
5-Nov-20 | CO | Alamosa | San Luis Valley Rgnl/Bergman Field | 0/6391 | 8/28/20 | Takeoff Minimums and Obstacle DP, Amdt 4B.
5-Nov-20 | AK | St Mary's | St Mary's | 0/6454 | 8/28/20 | LOC/DME RWY 17, Amdt 5C.
5-Nov-20 | AK | St Mary's | St Mary's | 0/6455 | 8/28/20 | RNAV (GPS) RWY 17, Amdt 3B.
5-Nov-20 | AK | St Mary's | St Mary's | 0/6456 | 8/28/20 | RNAV (GPS) RWY 35, Amdt 2D.
5-Nov-20 | MN | Princeton | Princeton Muni | 0/6742 | 9/8/20 | RNAV (GPS) RWY 33, Orig-B.
5-Nov-20 | MN | Princeton | Princeton Muni | 0/6743 | 9/8/20 | RNAV (GPS) RWY 15, Orig-C.
5-Nov-20 | AK | Willow | Willow | 0/7081 | 8/26/20 | RNAV (GPS) RWY 13, Orig.
5-Nov-20 | AK | Willow | Willow | 0/7082 | 8/26/20 | RNAV (GPS) RWY 31, Orig.
5-Nov-20 | NE | Columbus | Columbus Muni | 0/7087 | 8/31/20 | RNAV (GPS) RWY 14, Orig-C.
5-Nov-20 | NE | Columbus | Columbus Muni | 0/7088 | 8/31/20 | RNAV (GPS) RWY 32, Orig-B.
5-Nov-20 | NE | Columbus | Columbus Muni | 0/7089 | 8/31/20 | LOC/DME RWY 14, Amdt 8C.
5-Nov-20 | NE | Columbus | Columbus Muni | 0/7090 | 8/31/20 | VOR RWY 14, Amdt 14D.
5-Nov-20 | NE | Columbus | Columbus Muni | 0/7091 | 8/31/20 | VOR RWY 32, Amdt 14C.
5-Nov-20 | HI | Kapolei | Kalaeloa (John Rodgers Field) | 0/7363 | 8/28/20 | VOR/DME RWY 4R, Amdt 1.
5-Nov-20 | WI | Eau Claire | Chippewa Valley Rgnl | 0/7631 | 9/1/20 | ILS OR LOC RWY 22, Amdt 10.
5-Nov-20 | KS | Ottawa | Ottawa Muni | 0/8061 | 8/31/20 | RNAV (GPS) RWY 17, Amdt 2.
5-Nov-20 | KS | Ottawa | Ottawa Muni | 0/8065 | 8/31/20 | RNAV (GPS) RWY 35, Amdt 2.
5-Nov-20 | MA | Stow | Minute Man Air Field | 0/8772 | 9/1/20 | RNAV (GPS) RWY 21, Orig-B.
5-Nov-20 | PR | San Juan | Luis Munoz Marin Intl | 0/9029 | 9/9/20 | RNAV (GPS) RWY 8, Amdt 1.
5-Nov-20 | PR | San Juan | Luis Munoz Marin Intl | 0/9030 | 9/9/20 | RNAV (GPS) RWY 10, Amdt 2A.
5-Nov-20 | HI | Kaunakakai | Molokai | 0/9339 | 8/28/20 | VOR OR TACAN-A, Amdt 17.
5-Nov-20 | OH | Toledo | Eugene F Kranz Toledo Express | 0/9591 | 9/9/20 | ILS Z OR LOC Z RWY 25, Amdt 9.
5-Nov-20 | OH | Toledo | Eugene F Kranz Toledo Express | 0/9592 | 9/9/20 | RNAV (GPS) RWY 16, Orig-A.
5-Nov-20 | OH | Toledo | Eugene F Kranz Toledo Express | 0/9593 | 9/9/20 | RNAV (GPS) RWY 25, Amdt 2C.
5-Nov-20 | OH | Toledo | Eugene F Kranz Toledo Express | 0/9594 | 9/9/20 | RNAV (GPS) RWY 34, Orig-C.
5-Nov-20 | OH | Toledo | Eugene F Kranz Toledo Express | 0/9595 | 9/9/20 | RNAV (GPS) RWY 7, Amdt 1C.
5-Nov-20 | OH | Toledo | Eugene F Kranz Toledo Express | 0/9596 | 9/9/20 | Takeoff Minimums and Obstacle DP, Amdt 3.
5-Nov-20 | MN | Minneapolis | Anoka County-Blaine (Janes Field) | 0/9618 | 9/14/20 | ILS OR LOC RWY 27, Orig-C.
5-Nov-20 | MN | Minneapolis | Anoka County-Blaine (Janes Field) | 0/9631 | 9/14/20 | RNAV (GPS) RWY 27, Orig-D.
5-Nov-20 | TX | Gilmer | Fox Stephens Field-Gilmer Muni | 0/9669 | 9/14/20 | RNAV (GPS) RWY 36, Orig-A.
5-Nov-20 | TX | Gilmer | Fox Stephens Field-Gilmer Muni | 0/9673 | 9/14/20 | RNAV (GPS) RWY 18, Orig-A.
5-Nov-20 | TN | Sparta | Upper Cumberland Rgnl | 0/9685 | 9/9/20 | NDB RWY 4, Amdt 4B.
5-Nov-20 | MN | Little Falls | Little Falls/Morrison County-Lindbergh Fld | 0/9906 | 9/1/20 | NDB RWY 31, Amdt 6D.
5-Nov-20 | MN | Little Falls | Little Falls/Morrison County-Lindbergh Fld | 0/9907 | 9/1/20 | RNAV (GPS) RWY 31, Orig-B.
5-Nov-20 | WI | Rice Lake | Rice Lake Rgnl-Carl's Field | 0/9994 | 9/11/20 | RNAV (GPS) RWY 19, Amdt 3.

[FR Doc. 2020-21854 Filed 10-2-20; 8:45 am]

BILLING CODE 4910-13-P